DEPARTMENT OF TRANSPORTATION

Federal Highway Administration

23 CFR Part 490

RIN 2125-AF95

National Performance Management Measures for Assessing Bridge Condition

AGENCY: Federal Highway Administration (FHWA), U.S. Department of Transportation (DOT).

ACTION: Termination of rulemaking.

SUMMARY: FHWA terminates its rulemaking on National Performance Management Measures for Assessing Bridge Condition. FHWA will proceed to formally withdraw the rule from FHWA's upcoming Spring 2025 Unified Agenda of Regulatory and Deregulatory Actions (“Unified Agenda”).

DATES: June 3, 2025.

FOR FURTHER INFORMATION CONTACT: Ms. Alexis Kuklenski, Office of Infrastructure, (202) 689-9229, alexis.kuklenski@dot.gov; or Ms. Dawn Horan, Office of the Chief Counsel, (202) 366-9615, dawn.m.horan@dot.gov, Federal Highway Administration, 1200 New Jersey Avenue SE, Washington, DC 20590. Office hours are from 8:00 a.m. to 4:30 p.m., E.T., Monday through Friday, except Federal holidays.

SUPPLEMENTARY INFORMATION:

Electronic Access and Filing

This document may be viewed online through the Federal eRulemaking portal at www.regulations.gov. The website is available 24 hours each day, 365 days each year. An electronic copy of this document may also be downloaded by accessing the Office of the Federal Register's website at www.federalregister.gov.

Background

FHWA had initiated a rulemaking titled “National Performance Management Measures for Assessing Bridge Condition” RIN 2125-AF95, to address data collection and reporting inconsistencies between the title 23, Code of Federal Regulations (CFR), part 490 subparts A and D and the updated 23 CFR part 650 subpart C National Bridge Inspection Standards and its incorporated references. These inconsistencies will now be addressed as part of the “National Performance Management Measures” RIN 2125-AG06 rulemaking effort. This rulemaking project was listed on FHWA's Unified Agenda, however no Notice of Proposed Rulemaking was published in the Federal Register.

All Agencies participate in the semi-annual Unified Agenda, which provides a summary description of the regulatory actions that each Agency is considering or reviewing. Agencies' agendas are posted on the public website of the Office of Information and Regulatory Affairs, and portions are published in the Federal Register in the spring and fall of each year. The Unified Agenda is often used as a tool to solicit interest and participation from stakeholders. Withdrawal of this rulemaking activity will allow FHWA to better align its entries on the Department's Unified Agenda with the Agency's needs, priorities, and objectives. Accordingly, FHWA is terminating the rulemaking associated with RIN 2125-AF95.

Gloria M. Shepherd,
Executive Director, Federal Highway Administration.

[FR Doc. 2025-09893 Filed 6-2-25; 8:45 am]

BILLING CODE 4910-22-P